DEPARTMENT OF COMMERCE

National Oceanic and Atmospheric Administration

[I.D. 020102B]

Proposed Information Collection; Comment Request; Scientific Research, Exempted Fishing, and Exempted Activity Submissions

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before April 8, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to William D. Chappell, Fisheries Management Specialist, at 301-713-2341 or William.Chappell@noaa.gov.

SUPPLEMENTARY INFORMATION:

I. Abstract

Fishery regulations do not generally affect scientific research activities conducted by a scientific research vessel. Persons planning to conduct such research are encouraged to submit a research plan to ensure that the activities are considered research and not fishing. NOAA may also grant exemptions from fishery regulations for educational or other activities (e.g. testing of fishing gear). Applications for these exemptions must be submitted, and reports on activities submitted. Somewhat different requirements apply to the Atlantic Highly Migratory Species fishery, including certain arrival and offloading reports.

II. Method of Collection

Most information is submitted on forms or other written format. Some information may be phoned to NOAA.

III. Data

OMB Number: 0648-0309.

Form Number: None.

Type of Review: Regular submission.

Affected Public: Business and other for-profit; individuals or households; not-for-profit institutions; State, Local, or Tribal government.

Estimated Number of Respondents: 359.

Estimated Time Per Response: 1 hour for a scientific research plan, an exempted fishing permit request, or an exempted fishing permit report; 10 minutes for an application for an exempted fishing permit/letter of authorization for commercial fishing for Highly Migratory Species; 30 minutes for an application for an exempted fishing permit/letter of authorization for non-commercial fishing for Highly Migratory Species; 30 minutes for an annual summary of activities under an exempted fishing permit/letter of authorization for sharks; 5 minutes for an arrival report for a vessel with a swordfish exempted fishing permit/letter of authorization; 5 minutes for a report on non-commercial activities under an exempted fishing permit/letter of authorization for Highly Migratory Species; and 5 minutes for an off-loading notification for swordfish for a vessel with an exempted fishing permit/letter of authorization.

Estimated Total Annual Burden Hours: 435.

Estimated Total Annual Cost to Public: $500.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 31, 2002.
Gwellnar Banks,
Management Analyst, Office of the Chief Information Officer.

[FR Doc. 02-2876 Filed 2-5-02; 8:45 am]

BILLING CODE 3510-22-S